DEPARTMENT OF COMMERCE

International Trade Administration

Ohio State University, et al. Notice of Consolidated Decision on Applications for Duty-Free Entry of Electron Microscopes

This is a decision consolidated pursuant to Section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Docket Number: 02-041. Applicant: Ohio State University, Columbus, OH 43210. Instrument: Electron Microscope, Model Tecnai F20 S-TWIN. Manufacturer: FEI Company, The Netherlands. Intended Use: See notice at 67 FR 64096, October 17, 2002. Order Date: March 16, 2001.

Docket Number: 02-044. Applicant: Dartmouth College, Hanover, NH 03755. Instrument: Electron Microscope, Model JEM-1010. Manufacturer: JEOL Ltd., Japan. Intended Use: See notice at 67 FR 70406, November 22, 2002. Order Date: June 25, 2002.

Docket Number: 02-045. Applicant: University of Vermont, Burlington, VT 05405. Instrument: Electron Microscope, Model Tecnai 12 TWIN. Manufacturer: FEI Company, The Netherlands. Intended Use: See notice at 67 FR 64097, October 17, 2002. Order Date: December 27, 2001.

Docket Number: 02-046. Applicant: Brandeis University. Instrument: Electron Microscope, Model Tecnai F30 TWIN. Manufacturer: FEI Company, The Netherlands. Intended Use: See notice at 67 FR 70406, November 22, 2002. Order Date: July 31, 2002.

Comments: None received. Decision: Approved. No instrument of equivalent scientific value to the foreign instrument, for such purposes as these instruments are intended to be used, was being manufactured in the United States at the time the instruments were ordered. Reasons: Each foreign instrument is a conventional transmission electron microscope (CTEM) and is intended for research or scientific educational uses requiring a CTEM. We know of no CTEM, or any other instrument suited to these purposes, which was being manufactured in the United States at the time of order of each instrument.

Gerald A. Zerdy,
Program Manager, Statutory Import Programs Staff.

[FR Doc. 02-31973 Filed 12-18-02; 8:45 am]

BILLING CODE 3510-DS-P